DEPARTMENT OF ENERGY

Federal Energy Regulatory Commission

[Project No. 2290-130]

Southern California Edison Company; Notice of Application Tendered for Filing With the Commission and Establishing Procedural Schedule for Licensing and Deadline for Submission of Final Amendments

Take notice that the following hydroelectric application has been filed with the Commission and is available for public inspection.

a. Type of Application: New Major License.

b. Project No.: 2290-130.

c. Date Filed: November 22, 2024.

d. Applicant: Southern California Edison Company (SCE).

e. Name of Project: Kern River No. 3 Hydroelectric Project (KR3 Project).

f. Location: On the North Fork Kern River and on Salmon Creek and Corral Creek near the town of Kernville in Kern and Tulare Counties, California.

g. Filed Pursuant to: Federal Power Act, 16 U.S.C. 791(a)-825(r).

h. Applicant Contact: Stephanie Fincher-DeMillo, Project Manager, Southern California Edison Company, 54170 Mtn Spruce Road, Big Creek, California 93605; (626) 302-0945; stephanie.fincher@sce.com.

i. FERC Contact: Quinn Emmering, Project Coordinator; (202) 502-6382 or quinn.emmering@ferc.gov.

j. The application is not ready for environmental analysis at this time.

k. Project Description: The KR3 Project is operated as a run-of-river facility to generate power and has no water storage. Project facilities are primarily located on federal land in the Sequoia National Forest and consist of: (1) the project's main diversion, Fairview Dam, located on the North Fork Kern River (NFKR) at river mile 18.6, which is a 26-foot-high mass concrete overflow gravity structure with a 206-foot-long, 6.5-foot-wide overflow crest at 3,632 feet above mean sea level that also serves as the spillway with a capacity of about 15,000 cubic feet per second (cfs) with 8 feet of head; (2) two non-operational fish ladders located adjacent to the west abutment of the dam; (3) two 19-foot by 8-foot fish-release slide gates each with a capacity of 300 cfs located near the east abutment of the dam passing minimum instream flow releases to the 16-mile-long NFKR bypassed reach; (4) an 85-foot-long, 19-foot-wide rectangular reinforced concrete intake structure and trash rack with 2-inch spacing on the east abutment of the dam diverting water from the NFKR; (5) a 61-foot-long, 5-foot-high mass concrete diversion structure on Salmon Creek located about 0.4 miles upstream of its confluence with the NFKR, which includes two drain gates directing water to the creek and a third gate conveying water to a diversion pipe; (6) a 226-foot-long, 26-inch-diameter steel pipe delivering water to the project's conveyance system; (7) a 43-foot-long, 8-foot-high mass concrete diversion structure on Corral Creek located about 1.1 miles upstream of its confluence with the NFKR, which includes a 17-foot-wide spillway notch on top; an 8-inch slide gate to pass natural flows downstream when not diverting; and a pipe with interchangeable fixed-orifice plates to deliver water for minimum instream flows and to the diversion pipe; (8) a 904-foot-long, 14-inch- and 11-inch-diameter steel pipe delivering water to the project's conveyance system; (9) two flowline intake gates conveying water to an approximately 13-mile-long, 620-cfs capacity water conveyance system located along the eastern hillslope above the NFKR that is comprised of: (a) a 449-foot-long sandbox to trap sediment before water is directed to the flowline; (b) a buried flowline consisting of 24, 8-foot-high, 8.5- to 9.5-foot-wide concrete-lined tunnel segments totaling 60,270 feet long; (c) 4,600 feet of 8.5-foot-high, 8.25-foot-wide, above-ground concrete flumes between each tunnel segment; (d) the Cannell Creek siphon and spillway consisting of a 1,146-foot-long, steel pipe and a 515-foot-long spillway conveying excess water in the flowline to Cannell Creek during unplanned outages or paused generation; (e) a 1,100-foot-long, 9.5-foot-diameter concrete pressure flume pipe; (f) two 24-inch slide gates between the flume and forebay controlling flow to the penstocks; (g) a 61-foot-long, 20-foot-wide, 30-foot-high concrete box forebay with a 2,700-foot-long spillway to the NFKR; and (h) two 2,500-foot-long steel penstocks extending from the forebay to the powerhouse; (10) an 130-foot-long, 88-foot-wide concrete powerhouse containing two Francis reaction-type turbines and two generator units with installed capacities of 20.5 and 19.7 megawatts; (7) a 90-foot-long, 20-foot-wide concrete wing wall attached to the powerhouse serving as a tailrace that discharges all diverted water to the NFKR; (11) two communication lines totaling 2.5 miles long; (12) 33 project roads totaling about 18.4 miles; (13) an approximately 3.4-acre recreation facility downstream of the powerhouse with parking and a boat launch; and (14) appurtenant facilities. The estimated average annual generation (1997-2023) is 118,497 megawatt-hours.

SCE proposes to continue operating the KR3 Project in run-of-river mode with minor adjustments to the FERC project boundary and operation and maintenance activities in response to implementing proposed environmental measures. No new project facilities are proposed.

l. In addition to publishing this notice in the Federal Register, the Commission provides all interested persons an opportunity to view and/or print the contents of this notice, as well as other documents in the proceeding (e.g., license application) via the internet through the Commission's Home Page (http://www.ferc.gov), using the “eLibrary” link. Enter the docket number, excluding the last three digits in the docket number field to access the document (P-2290). For assistance, contact FERC at FERCOnlineSupport@ferc.gov, (866) 208-3676 (toll free), or (202) 502-8659 (TTY). You may also register online at https://ferconline.ferc.gov/FERCOnline.aspx to be notified via email of new filings and issuances related to this or other pending projects. For assistance, contact FERC Online Support.

m. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

n. Procedural Schedule: The application will be processed according to the following preliminary schedule. Revisions to the schedule will be made as appropriate.

Deficiency Letter (if necessary) December 2024

Additional Information Request (if necessary) January 2025

Notice of Acceptance April 2025

Issue Notice of Ready for Environmental Analysis April 2025

o. Final amendments to the application must be filed with the Commission no later than 30 days from the issuance date of the notice of ready for environmental analysis.

Dated: December 5, 2024.
Carlos D. Clay,
Acting Deputy Secretary.

[FR Doc. 2024-29098 Filed 12-10-24; 8:45 am]

BILLING CODE 6717-01-P